OFFICE OF GOVERNMENT ETHICS

Solicitation of Input From Stakeholders Regarding the U.S. Office of Government Ethics Strategic Plan (FY 2014-2017)

AGENCY: Office of Government Ethics (OGE).

ACTION: Notice of Request for Public Comment.

SUMMARY: The U.S. Office of Government Ethics (OGE) is providing notice of request for public comment on its draft FY 2014-2017 Strategic Plan (Plan). The Plan describes OGE's priorities for the next four years. OGE will consider all comments received by the deadline. You may access the Plan at www.oge.gov, or you may obtain a copy of the Plan by sending an email request to OGEStrategicPlan@oge.gov.

DATES: All comments must be received on or before August 19, 2013.

ADDRESSES: You may submit comments by any of the following methods:

Email: OGEStrategicPlan@oge.gov.

Mail, Hand Delivery/Courier: U.S. Office of Government Ethics, Suite 500, 1201 New York Avenue NW., Washington, DC 20005-3917, Attention: Nicole Stein, OGE Strategic Plan.

FOR FURTHER INFORMATION CONTACT: Nicole Stein, Program Analyst, U.S. Office of Government Ethics, Suite 500, 1201 New York Avenue NW., Washington, DC 20005-3917; Telephone: 202-482-9255; TTY: 800-877-8339; Email: nicole.stein@oge.gov.

Dated: July 19, 2013.
Walter M. Shaub, Jr.
Director, U.S. Office of Government Ethics.

[FR Doc. 2013-17908 Filed 7-24-13; 8:45 am]

BILLING CODE 6345-03-P